DEPARTMENT OF HEALTH AND HUMAN SERVICES

Administration for Children and Families

Proposed Information Collection Activity: Strengthening Child Welfare Systems To Achieve Expected Child and Family Outcomes Cross-Site Evaluation (New Collection)

AGENCY: Children's Bureau, Administration for Children and Families, United States Department of Health and Human Services.

ACTION: Request for public comments.

SUMMARY: The Children's Bureau, Administration for Children and Families (ACF), Department of Health and Human Services, is proposing to collect data for a new process and outcome study, Strengthening Child Welfare Systems to Achieve Expected Child and Family Outcomes (SCWS).

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The SCWS study will collect information to understand (1) implementation processes and the impact of grant interventions and (2) examine whether and the degree to which grant recipients were able to address common Child and Family Services Reviews (CFSR) outcomes. Proposed data sources for this effort include one survey and one focus group. The survey will gather information to understand the factors that supported or hindered implementation, as well as assess collaboration efforts and the intended impact of grant interventions. The focus groups will gather information to understand implementation of SCWS strategies and interventions, successes and challenges, and the perceived effect of the strategies on short and long-term child welfare outcomes, with specific attention to CFSR outcomes related to permanency.

Respondents: Respondents will include grant recipient staff, evaluators, and community partners.

Annual Burden Estimates
Instrument | Total number of respondents | Total number of responses per respondent | Average burden hours per response | Total burden hours | Annual burden hours
SCWS web-based survey | 60 | 1 | 0.5 | 30 | 10
SCWS focus group | 30 | 1 | 1.5 | 45 | 15

Estimated Total Annual Burden Hours: 25.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Statutory Authority Title II, Section 203(b)(4) of the Child Abuse Prevention and Treatment and Adoption Reform Act of 1978 (42 U.S.C. 5113(b)(4)).

Mary B. Jones,
ACF/OPRE Certifying Officer.

[FR Doc. 2023-11634 Filed 5-31-23; 8:45 am]

BILLING CODE 4184-29-P